DEPARTMENT OF HEALTH AND HUMAN SERVICES

Centers for Disease Control and Prevention

[Program Announcement 05003]

Tuberculosis Elimination and Laboratory; Notice of Availability of Funds—Amendment

A notice announcing the availability of fiscal year (FY) 2004 funds for Tuberculosis Elimination and Laboratory was published in the Federal Register on May 27, 2004, Volume 69, Number 103, pages 30300-30312. The notice is amended as follows: On page 30300, Column 1, “Application Deadline”, change deadline date to July 29, 2004. On page 30308, Column 3, “Application Deadline”, change deadline date to July 29, 2004.

Dated: June 28, 2004.
Alan Kotch,
Acting Director, Procurement and Grants Office, Centers for Disease Control and Prevention.

[FR Doc. 04-15066 Filed 7-1-04; 8:45 am]

BILLING CODE 4163-18-P